FEDERAL RESERVE SYSTEM

12 CFR Part 261a

[Docket No. R-1126]

Privacy Act of 1974; Implementation

AGENCY: Board of Governors of the Federal Reserve System.

ACTION: Final rule.

SUMMARY: The Board of Governors of the Federal Reserve System (Board) is amending its Rules Regarding Access to Personal Information under the Privacy Act (Privacy Act Rules) to reflect the implementation of a new system of records. Notice of this new system of records, entitled Visitor Log (BGFRS-32) is published in an adjacent notice.

EFFECTIVE DATE: August 12, 2002.

FOR FURTHER INFORMATION CONTACT: Elaine M. Boutilier, Managing Senior Counsel, Legal Division (202/452-2418), Board of Governors of the Federal Reserve System, 20th Street and Constitution Avenue, NW., Washington, DC 20551.

SUPPLEMENTARY INFORMATION: In light of the heightened concerns regarding security of Federal government personnel and buildings, the Board is implementing a procedure to screen visitors to the Board's premises before admission to those premises. To conduct this screening, the Board will request, in advance, that each visitor provide his or her name, date of birth, and social security number. Persons who refuse to provide the requested information may be denied admittance to the premises. Using the requested information, the Board will run a brief check through law enforcement data bases to determine whether the visitor may present a risk to the security of the Board. Thus, these records may contain information provided by law enforcement agencies that is exempt from certain provisions of the Privacy Act, including the access provisions, pursuant to section (k)(2), 5 U.S.C. 552a(k)(2).

The Board's Privacy Act Rules must be amended to include this system of records in the list of “exempt” systems of records. The Visitor Log system of records is exempt from certain provisions of the Privacy Act, including those regarding accounting of disclosures and access to records.

Regulatory Flexibility Act

In accordance with 5 U.S.C. 605, the Board certifies that this rule will not have a significant economic impact on a substantial number of small entities.

Administrative Procedure Act

This rule is exempt from the rulemaking provisions of the Administrative Procedure Act, 5 U.S.C. 553, and the Congressional Review Act, pursuant to 5 U.S.C. 804(3)(B) and (C), because it is a rule relating to agency management or personnel and a rule of agency procedure that does not substantially affect the rights or obligations of non-agency parties.

List of Subjects in 12 CFR part 261a

Federal Reserve System, Privacy.

For the reasons set forth in the preamble, the Board amends 12 CFR part 261a as follows:

PART 261a—RULES REGARDING ACCESS TO PERSONAL INFORMATION UNDER THE PRIVACY ACT OF 1974

1. The authority citation for part 261a continues to read as follows:

Authority: 5 U.S.C. 552a.

2. In § 261a.13, add a new paragraph (b)(10) to read as follows:

§ 261a.13 Exemptions.

* * * * *

(b) * * *

(10) BGFRS—32 Visitor Log.

* * * * *

By order of the Board of Governors of the Federal Reserve System, June 27, 2002.
Jennifer J. Johnson,
Secretary of the Board.

[FR Doc. 02-16725 Filed 7-2-02; 8:45 am]

BILLING CODE 6210-01-S